DEPARTMENT OF HEALTH AND HUMAN SERVICES

Health Resources and Services Administration

Agency Information Collection Activities: Proposed Collection: Public Comment Request; Information Collection Request Title: State Maternal Health Innovation Maternal Health Annual Report

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than September 6, 2024.

ADDRESSES: Submit your comments to paperwork@hrsa.gov or mail the HRSA Information Collection Clearance Officer, Room 14N39, 5600 Fishers Lane, Rockville, Maryland 20857.

FOR FURTHER INFORMATION CONTACT: To request more information on the proposed project or to obtain a copy of the data collection plans and draft instruments, email paperwork@hrsa.gov or call Joella Roland, the HRSA Information Collection Clearance Officer, at (301) 443-3983.

SUPPLEMENTARY INFORMATION: When submitting comments or requesting information, please include the ICR title for reference.

Information Collection Request Title: State Maternal Health Innovation Maternal Health Annual Report, OMB No. 0906-xxxx-New.

Abstract: The State Maternal Health Innovation (MHI) program is authorized by 42 U.S.C. 701(a)(2) (title V, sec. 501(a)(2) of the Social Security Act), which authorizes awards for special projects of regional and national significance in maternal and child health. Special projects of regional and national significance support HRSA's mission to improve the health and well-being of America's mothers, children, and families. HRSA directly funds states to implement maternal health innovation projects. The Maternal Health Annual Report will be completed by all grantees who receive funding under the program.

Need and Proposed Use of the Information: HRSA will use the information to monitor grantees' progress in accessing, analyzing, and using state-level maternal health data and to summarize the data focused work that grantees accomplish.

Likely Respondents: Recipients of the HRSA State MHI grants.

Burden Statement: Burden in this context means the time expended by persons to generate, maintain, retain, disclose, and provide the information requested. This includes the time needed to review instructions; to develop, acquire, install, and utilize technology and systems for the purpose of collecting, validating, and verifying information, processing and maintaining information, and disclosing and providing information. It also includes training personnel to be able to respond to the information collection, to search data sources, to complete and review, and to transmit or otherwise disclose the information. The total annual burden hours estimated for this ICR are summarized in the table below.

Total Estimated Annualized Burden Hours
Form name | Number of respondents | Number of responses per respondent | Total responses | Average burden per response (in hours) | Total burden hours
Maternal Health Annual Report (MHAR): Respondents (Medical and Health Services Managers) | 30 | 1 | 30 | 12 | 360
Total | 30 |  | 30 |  | 360

HRSA specifically requests comments on: (1) the necessity and utility of the proposed information collection for the proper performance of the agency's functions; (2) the accuracy of the estimated burden; (3) ways to enhance the quality, utility, and clarity of the information to be collected; and (4) the use of automated collection techniques or other forms of information technology to minimize the information collection burden.

Maria G. Button,
Director, Executive Secretariat.

[FR Doc. 2024-14790 Filed 7-5-24; 8:45 am]

BILLING CODE 4165-15-P